NUCLEAR REGULATORY COMMISSION

[Docket No. 40-8778-MLA-2; ASLBP No. 00-775-03-MLA]

Atomic Safety and Licensing Board; Molycorp, Inc.; Site Decommissioning Plan; Notice of Hearing

September 29, 2000.

This proceeding involves a proposed amendment by Molycorp, Inc. to its Source Materials License No. SMB-1393, to authorize a site decommissioning plan (SDP) for the Licensee's former processing facility in Washington, Pennsylvania. The proposal under review (a modification of a previously submitted proposal) represents Part 1 of the SDP. It was submitted to the Nuclear Regulatory Commission on June 30, 1999, and would authorize the decommissioning to unrestricted levels of a portion of the site. (Part 2 of the SDP, covering restricted decommissioning of the remainder of the site, was submitted to the Nuclear Regulatory Commission on August 14, 2000, but an opportunity for hearing has not yet been noticed.)

Notice is hereby given that, by Memorandum and Order dated September 28, 2000, LBP-00-25, 52 NRC _, the Presiding Officer has granted the request for a hearing submitted by Canton Township, Pennsylvania, with respect to Part 1 of the SDP. Parties to this proceeding are the Licensee, Molycorp, Inc.; Canton Township, Pennsylvania, Intervenor; and the Staff of the Nuclear Regulatory Commission.

This proceeding will be conducted under the Commission's informal hearing procedures set forth in 10 CFR Part 2, Subpart L. In response to a Notice of Opportunity for Hearing, published at 64 FR 62227 (November 16, 1999), Canton Township submitted a timely hearing request. Administrative Judge Charles Bechhoefer has been designated Presiding Officer and, pursuant to 10 CFR 2.722 and 2.1209, Administrative Judge Richard F. Cole has been appointed as Special Assistant to assist the Presiding Officer in taking evidence and preparing a suitable record for review. 65 FR 3258 (January 20, 2000).

During the course of this proceeding, the Presiding Officer, pursuant to 10 CFR 2.1211(a), will entertain limited appearance statements from any member of the public who is not a party to the proceeding, for the purpose of stating his or her views on the issues involved in this proceeding. Although these statements are not evidence and do not become part of the decisional record, they may assist the Presiding Officer and parties in their consideration of matters at issue in this proceeding. Limited appearance statements should be made in writing. If the Presiding Officer conducts an oral argument or in-person prehearing conference, the Presiding Officer may, at his discretion, hear oral statements from members of the public, at a time and location yet to be determined. Written statements, and requests to make oral statements, should be submitted to the Office of the Secretary, Rulemaking and Adjudications Staff, U.S. Nuclear Regulatory Commission, Washington, D.C. 20555. A copy of such statement or request should also be served on the Presiding Officer, T-3 F23, U.S. Nuclear Regulatory Commission, Washington, D.C. 20555, or CXB2@nrc.gov.

Documents related to this proceeding, issued prior to December 1, 1999, are available in microfiche form (with print form available on one-day recall) for public inspection at the Commission's Public Document Room (PDR), Room O-1 F21, NRC One White Flint North, 11555 Rockville Pike, Rockville, Maryland 20852-2738.

Documents issued subsequent to November 1, 1999 are available electronically through the Agencywide Documents Access and Management System (ADAMS), with access to the public through NRC's Internet Web site (Public Electronic Reading Room Link, <http://www.nrc.gov/NRC/ADAMS/index.html>). The PDR and many public libraries have terminals for public access to the Internet.

Dated: September 29, 2000.
Charles Bechhoefer,
Administrative Judge, Presiding Officer, Rockville, Maryland.

[FR Doc. 00-25492 Filed 10-4-00; 8:45 am]

BILLING CODE 7590-01-P